DEPARTMENT OF ENERGY

Federal Energy Regulatory Commission

Combined Notice of Filings #1

Take notice that the Commission received the following exempt wholesale generator filings:

Docket Numbers: EG24-31-000.

Applicants: Sparta Solar, LLC.

Description: Sparta Solar, LLC submits Notice of Self-Certification of Exempt Wholesale Generator Status.

Filed Date: 11/16/23.

Accession Number: 20231116-5138.

Comment Date: 5 p.m. ET 12/7/23.

Take notice that the Commission received the following electric rate filings:

Docket Numbers: ER10-2265-021; ER10-2355-011; ER10-2947-016; ER10-3223-010; ER11-1846-012; ER11-1847-012; ER11-1850-012; ER11-2062-029; ER11-2175-007; ER11-2176-006; ER11-2598-015; ER11-3188-007; ER11-3418-009; ER11-4307-030; ER11-4308-030; ER12-224-008; ER12-225-008; ER12-261-029; ER12-2301-007; ER13-1192-009; ER16-10-004; ER17-764-007; ER17-765-007; ER17-767-007; ER21-2826-002; ER10-2784-017.

Applicants: Astoria Gas Turbine Power LLC, NRG Curtailment Solutions, Inc., Stream Energy Delaware, LLC, Stream Energy Illinois, LLC, Stream Ohio Gas & Electric, LLC, NRG Chalk Point CT LLC, Hess Energy Marketing LLC, Stream Energy New York, LLC, Independence Energy Group LLC, Stream Energy New Jersey, LLC, Stream Energy Columbia, LLC, Reliant Energy Northeast LLC, Green Mountain Energy Company, Xoom Energy, LLC, Stream Energy Maryland, LLC, Gateway Energy Services Corporation, Stream Energy Pennsylvania, LLC, SGE Energy Sourcing, LLC, Energy Plus Holdings LLC, Direct Energy Business, LLC, Direct Energy Marketing Inc., Direct Energy Services, LLC, Indian River Power LLC, Vienna Power LLC, Midwest Generation LLC, NRG Power Marketing LLC.

Description: Response to October 6, 2023, Deficiency Letter of NRG Power Marketing LLC, et. al.

Filed Date: 11/6/23.

Accession Number: 20231106-5177.

Comment Date: 5 p.m. ET 11/27/23.

Docket Numbers: ER23-1956-001.

Applicants: Earthrise Tilton Interconnection, LLC.

Description: Compliance filing: Compliance Filing Reflecting Actual Effective Date of Tariff Records to be effective N/A.

Filed Date: 11/16/23.

Accession Number: 20231116-5141.

Comment Date: 5 p.m. ET 12/7/23.

Docket Numbers: ER23-1958-001.

Applicants: Earthrise Shelby County Interconnection, LLC.

Description: Compliance filing: Compliance Filing Reflecting Actual Effective Date of Tariff Records to be effective N/A.

Filed Date: 11/16/23.

Accession Number: 20231116-5137.

Comment Date: 5 p.m. ET 12/7/23.

Docket Numbers: ER23-2018-001.

Applicants: Shelby County Energy Center, LLC.

Description: Compliance filing: Compliance Filing Reflecting Actual Effective Date of Tariff Records to be effective N/A.

Filed Date: 11/16/23.

Accession Number: 20231116-5143.

Comment Date: 5 p.m. ET 12/7/23.

Docket Numbers: ER23-2019-001.

Applicants: Tilton Energy LLC.

Description: Compliance filing: Compliance Filing Reflecting Actual Effective Date of Tariff Records to be effective N/A.

Filed Date: 11/16/23.

Accession Number: 20231116-5148.

Comment Date: 5 p.m. ET 12/7/23.

Docket Numbers: ER24-406-000.

Applicants: PJM Interconnection, L.L.C.

Description: § 205(d) Rate Filing: Amendment to WMPA, Service Agreement No. 6365; Queue No. AE2-309 to be effective 1/16/2024.

Filed Date: 11/16/23.

Accession Number: 20231116-5002.

Comment Date: 5 p.m. ET 12/7/23.

Docket Numbers: ER24-407-000.

Applicants: ITC Midwest LLC.

Description: § 205(d) Rate Filing: Filing of Communications Pathway Sharing Agreement (Rate Schedule No. 230) to be effective 1/16/2024.

Filed Date: 11/16/23.

Accession Number: 20231116-5028.

Comment Date: 5 p.m. ET 12/7/23.

Docket Numbers: ER24-408-000.

Applicants: Midcontinent Independent System Operator, Inc., Michigan Electric Transmission Company, LLC.

Description: § 205(d) Rate Filing: Midcontinent Independent System Operator, Inc. submits tariff filing per 35.13(a)(2)(iii: 2023-11-16_SA 4191 METC-Consumers Energy E&P (J2874) to be effective 11/10/2023.

Filed Date: 11/16/23.

Accession Number: 20231116-5043.

Comment Date: 5 p.m. ET 12/7/23.

Docket Numbers: ER24-409-000.

Applicants: Midcontinent Independent System Operator, Inc., Northern States Power Company, a Minnesota corporation, Northern States Power Company, a Wisconsin corporation.

Description: § 205(d) Rate Filing: Midcontinent Independent System Operator, Inc. submits tariff filing per 35.13(a)(2)(iii: 2023-11-16_NSP Request for Transmission Rate Incentives to be effective 1/16/2024.

Filed Date: 11/16/23.

Accession Number: 20231116-5044.

Comment Date: 5 p.m. ET 12/7/23.

Docket Numbers: ER24-410-000.

Applicants: Northeastern Power & Gas, LLC.

Description: Baseline eTariff Filing: Application for Market-Based Rate Authorization, Request for Related Waivers to be effective 11/30/2023.

Filed Date: 11/16/23.

Accession Number: 20231116-5048.

Comment Date: 5 p.m. ET 12/7/23.

Docket Numbers: ER24-411-000.

Applicants: AEP Texas Inc.

Description: § 205(d) Rate Filing: AEPTX-CED Peregrine Solar 1st A&R Generation Interconnection Agreement to be effective 10/25/2023.

Filed Date: 11/16/23.

Accession Number: 20231116-5061.

Comment Date: 5 p.m. ET 12/7/23.

Docket Numbers: ER24-412-000.

Applicants: McFarland Solar A, LLC.

Description: § 205(d) Rate Filing: McFarland Solar A, LLC Shared Facilities Agreement to be effective 11/17/2023.

Filed Date: 11/16/23.

Accession Number: 20231116-5085.

Comment Date: 5 p.m. ET 12/7/23.

Docket Numbers: ER24-413-000.

Applicants: McFarland Solar B, LLC.

Description: § 205(d) Rate Filing: McFarland Solar B, LLC Shared Facilities Agreement to be effective 11/17/2023.

Filed Date: 11/16/23.

Accession Number: 20231116-5107.

Comment Date: 5 p.m. ET 12/7/23.

Docket Numbers: ER24-414-000.

Applicants: California Independent System Operator Corporation.

Description: § 205(d) Rate Filing: 2023-11-16 Reconciliation Filing of FERC-Approved Tariff Language to be effective 7/1/2023.

Filed Date: 11/16/23.

Accession Number: 20231116-5123.

Comment Date: 5 p.m. ET 12/7/23.

Docket Numbers: ER24-415-000.

Applicants: Bowline, LLC.

Description: § 205(d) Rate Filing: Market Based Tariff to be effective 11/17/2023.

Filed Date: 11/16/23.

Accession Number: 20231116-5135.

Comment Date: 5 p.m. ET 12/7/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 16, 2023.
Debbie-Anne A. Reese,
Deputy Secretary.

[FR Doc. 2023-25830 Filed 11-21-23; 8:45 am]

BILLING CODE 6717-01-P